DEPARTMENT OF AGRICULTURE

Forest Service

USDA Forest Service Open Space Conservation Strategy and Implementation Plan

AGENCY: Forest Service, USDA.

ACTION: Request for public input; extension of comment period.

SUMMARY: The Forest Service has extended the deadline for receiving input into the development of the USDA Forest Service Open Space Conservation Strategy and Implementation Plan from December 13, 2006, to December 29, 2006. The Strategy and Implementation Plan will help shape the agency's strategic role in a national effort to conserve open space. The Forest Service is interested in addressing the effects of the loss of open space on private forests; on the National Forests and Grasslands and surrounding landscape; and on forests in cities, suburbs, and towns. Input for the Strategy and Implementation Plan should focus on programs, research, partnerships, and/or policy recommendations that could be developed to conserve open space. See SUPPLEMENTARY INFORMATION section for more background on the loss of open space and the Strategy and Implementation Plan.

DATES: The Forest Service will review public input received no later than December 29, 2006.

ADDRESSES: Send written comments to Claire Harper, USDA Forest Service, Cooperative Forestry, Mail Stop Code 1123, 1400 Independence Avenue, SW., Washington, DC 20250-1123; via electronic mail to openspace@fs.fed.us; or via facsimile to (202) 205-1271. The agency cannot confirm receipt of comments. All comments, including names and addresses when provided, are placed in the record and are available for public inspection. The public may inspect comments during regular business hours at the office of the Cooperative Forestry Staff, 4th Floor SE., Yates Building, 201 14th Street, SW., Washington, DC. Visitors are encouraged to call ahead to (202) 205-1389 to facilitate entry into the building.

FOR FURTHER INFORMATION CONTACT: For general information about the Open Space Conservation Strategy and Implementation Plan and the loss of open space, contact Claire Harper, USDA Forest Service, Cooperative Forestry, by telephone at (202) 205-1389 or by electronic mail at openspace@fs.fed.us. For a summary of the Forest Service's current research, programs, and resources available to facilitate open space conservation, please review the Forest Service's publication entitled “Cooperating Across Boundaries: Partnerships to Conserve Open Space in Rural America.” Electronic copies of this publication are available at http://www.fs.fed.us/projects/four-threats/documents/cooperatingacrossboundaries.pdf, and hardcopies are available by contacting Claire Harper at openspace@fs.fed.us.

SUPPLEMENTARY INFORMATION:

I. Background

In 2003, Forest Service Chief Dale Bosworth identified the loss of open space as one of four great threats facing our nation's forests and grasslands. Loss of open space is an issue that affects the sustainability of both the National Forests and Grasslands and private forests. Open space—including public and private land, wilderness and working land—provides a multitude of public benefits and ecosystem services we all need and enjoy. Three interrelated trends of conversion, fragmentation, and parcelization are jeopardizing the long term health and function of forests, limiting management options, and reducing opportunities for public enjoyment and use. To address the loss of open space threat, the Forest Service is building a national strategy to identify how the agency plans to focus its efforts on the issue. This strategy will provide actions and policy recommendations to conserve open space, with an emphasis on partnerships and collaborative approaches.

II. Open Space Conservation Strategy and Implementation Plan

The Forest Service recognizes that it is not the only contributor to open space conservation; it is only one among many. The Forest Service also acknowledges that the agency's role in open space conservation is not to regulate development or land use, but is to provide expertise, resources, information, and programs. To help prioritize and focus the agency's efforts, the Forest Service plans to develop and refine an Open Space Conservation Strategy and Implementation Plan to address the loss of open space.

Input for the Strategy and Implementation Plan should focus on programs, research, partnerships and/or policy recommendations that could be developed to conserve open space. Specifically, input regarding the following three questions is most useful:

1. How can the Forest Service protect land from conversion to other uses;

2. How can the Forest Service assist private landowners and communities in maintaining and managing their land as sustainable forests and grasslands; and

3. How can the Forest Service mitigate the impacts of existing and new developments.

By receiving input from people with diverse interests and perspectives, the agency hopes to attain an array of viewpoints and ideas regarding the Open Space Conservation Strategy and Implementation Plan. Feedback from a range of interested individuals will assist the agency in developing a well-informed, focused, and effective strategy to address the loss of open space threat.

Dated: December 7, 2006.
Robin L. Thompson,
Associate Deputy Chief, State and Private Forestry.

[FR Doc. E6-21238 Filed 12-13-06; 8:45 am]

BILLING CODE 3410-11-P